DEPARTMENT OF LABOR

Employment and Training Administration

[TA-W-57,812]

Sanford North America; Point Making Department Santa Monica, CA; Dismissal of Application for Reconsideration

Pursuant to 29 CFR 90.18(C) an application for administrative reconsideration was filed with the Director of the Division of Trade Adjustment Assistance for workers at Sanford North America, Point Making Department, Santa Monica, California. The application contained no new substantial information which would bear importantly on the Department's determination. Therefore, dismissal of the application was issued.

TA-W-57,812; Sanford North America, Point Making Department, Santa Monica, California (September 26, 2005).

Signed at Washington, DC this 6th day of October 2005.
Terrance Clark,
Acting Director, Division of Trade Adjustment Assistance.

[FR Doc. E5-5612 Filed 10-12-05; 8:45 am]

BILLING CODE 4510-30-P